DEPARTMENT OF TRANSPORTATION

Federal Highway Administration

Environmental Impact Statement: Charleston County, South Carolina; Notice of Intent

AGENCY: Federal Highway Administration (FHWA), DOT.

ACTION: Notice of intent to prepare an Environmental Impact Statement (EIS).

SUMMARY: The FHWA is issuing this notice of intent to advise the public that an Environmental Impact Statement will be prepared for a proposed highway project in Charleston County, South Carolina.

FOR FURTHER INFORMATION CONTACT: Emily O. Lawton, Division Administrator, Federal Highway Administration, Strom Thurmond Federal Building, 1835 Assembly Street, Suite 1270, Columbia, South Carolina 29201, Telephone: (803) 765-5411, Email: emily.lawton@dot.gov.

SUPPLEMENTARY INFORMATION: The Federal Highway Administration (FHWA), in cooperation with the South Carolina Department of Transportation (SCDOT), will be preparing an Environmental Impact Statement (EIS) for the I-526 West Lowcountry Corridor Improvements Project. The proposed project would make improvements to the I-526 corridor from Virginia Avenue to Paul Cantrell Boulevard in Charleston County, South Carolina. The purpose of the proposed project is to increase capacity and improve operations at the I-26/526 interchange and along the I-526 mainline from Virginia Avenue to Paul Cantrell Boulevard. The FHWA intends to issue a single Final EIS and Record of Decision (ROD) document pursuant to the FAST Act Section 1311 requirements, unless FHWA determines statutory criteria or practicability considerations preclude issuance of a combined document.

The I-526 and I-26 System-to-System interchange is a vital local connection, linking downtown Charleston, Summerville, West Ashley, and Mount Pleasant. I-26 links the Charleston area with the other major cities to the west like Columbia, Spartanburg, and Asheville, North Carolina, as well as with I-95, I-77, I-20, I-85, I-40, and I-81. In addition, I-526 provides the only freeway access to two important port terminals, the North Charleston terminal, and the Wando Welch terminal. Thus, I-526 is an important part of a network for transporting freight and commercial goods to and from the Port of Charleston and throughout the region.

The Charleston region's population growth is three times the average of the United States. With the increased population growth, traffic congestion is anticipated to worsen over the next 20 years. SCDOT has currently ranked I-526 between I-26 and Virginia Avenue as the most congested interstate segment in South Carolina. In addition, I-526 between I-26 and Paul Cantrell Boulevard is currently ranked among the top ten of South Carolina's most congested interstate corridors. Improvements to the corridor are considered necessary to provide for the existing and projected traffic demand and to address the existing and projected future congestion.

Alternatives under consideration will evaluate mainline widening options along with several interchange improvements at I-26/I-526, North Rhett Avenue, and Rivers Avenue in addition to the no-build alternative. The alternatives will be refined during the NEPA scoping process in consideration of agency and public comments received.

The FHWA and SCDOT are seeking input as part of the scoping process to assist in identifying issues relative to this project and potential solutions. Letters describing the proposed action and soliciting comments are being sent to appropriate Federal, State, and local agencies, and to private organizations and citizens who have previously expressed an interest in this project. Agency coordination will involve monthly meetings and a public information meeting will be held on November 21, 2019 from 11:00 a.m. to 7:00 p.m. at the North Charleston Convention Center that will allow the public to comment on the scope of the EIS, the purpose and need, the alternatives under evaluation, environmental impacts to be considered, and potential mitigation measures.

Further agency and community meetings will be held as the project is developed, and a public hearing will be conducted after the approval of the draft EIS. Public notice will be given of the time and place of the meetings and hearing. Meeting dates and locations will be posted on the project's website at https://www.526lowcountrycorridor.com/west/ and all known interested parties and the public will be notified via postcards.

To ensure that the full range of issues related to this proposed action are addressed and all significant issues identified, comments are invited from all interested parties. Comments or questions concerning this proposed action and the EIS should be directed to the FHWA at the address provided above no later than January 4, 2020.

(Catalog of Federal Domestic Assistance Program Number 20.205, Highway Planning and Construction. The regulations implementing Executive Order 12372 regarding intergovernmental consultation on Federal programs and activities apply to this program.)

Dated: November 1, 2019.
Yolonda Jordan,
Assistant Division Administrator, Columbia, South Carolina.

[FR Doc. 2019-24327 Filed 11-7-19; 8:45 am]

BILLING CODE 4910-22-P